DEPARTMENT OF TRANSPORTATION

Federal Aviation Administration

14 CFR Part 71

[Docket No. FAA-2024-0184; Airspace Docket No. 23-AWP-69]

RIN 2120-AA66

Modification of Class D Airspace and Establishment of Class E Airspace; Sacramento Mather Airport, Sacramento, CA

AGENCY: Federal Aviation Administration (FAA), DOT.

ACTION: Notice of proposed rulemaking (NPRM).

SUMMARY: This action proposes to modify the Class D airspace extending upward from the surface to and including 2,600 feet mean sea level (MSL) and establish Class E airspace extending upward from 700 feet above the surface at Sacramento Mather Airport, Sacramento, CA. Additionally, this action proposes administrative modifications to update the airport's Class D airspace legal description. These actions would support the safety and management of instrument flight rules (IFR) and visual flight rules (VFR) operations at the airport.

DATES: Comments must be received on or before June 3, 2024.

ADDRESSES: Send comments identified by FAA Docket No. FAA-2024-0184 and Airspace Docket No. 23-AWP-69 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it would modify Class D airspace and establish Class E airspace at Sacramento Mather Airport, Sacramento, CA, to support IFR and VFR operations at the airport.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received, and any final disposition in person in the Dockets Office (see the ADDRESSES section for the address, phone number, and hours of operations). An informal docket may also be examined during normal business hours at the Northwest Mountain Regional Office of the Federal Aviation Administration, Air Traffic Organization, Western Service Center, Operations Support Group, 2200 S 216th Street, Des Moines, WA 98198.

Incorporation by Reference

Class D and Class E5 airspace designations are published in paragraphs 5000 and 6005, respectively, of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

The Proposal

The FAA is proposing an amendment to 14 CFR part 71 to modify the Class D airspace and establish Class E airspace extending upward from 700 feet above the surface at Sacramento Mather Airport, Sacramento, CA.

The Class D surface area is comprised of a 4.5-mile radius of the airport. This airspace should be modified to include an extension centered on the 061° bearing from the airport, extending 1.8 miles beyond the existing radius. This extension would better contain departing IFR operations while utilizing the Runway (RWY) 4 Left (L) and 4 Right (R) obstacle departure procedures (ODP) until reaching the base of adjacent controlled airspace.

Class E airspace extending upward from 700 feet above the surface should be established to appropriately contain arriving IFR operations below 1,500 feet above the surface and departing IFR operations until reaching 1,200 feet above the surface at Sacramento Mather Airport. The airport utilizes the Sacramento very high frequency omnidirectional range/tactical air navigation (VORTAC) Class E airspace for some of its procedure containment, but that airspace is not sufficient in containing the Area Navigation (RNAV) (Global Positioning System [GPS]) RWY 22L approach at Sacramento Mather Airport. The point at which an arriving aircraft is expected to descend below 1,500 feet above the surface when flying the approach is within the hold-in-lieu of procedure turn holding pattern for the approach. The location of that point requires that the entirety of the holding area be contained within Class E airspace extending upward from 700 feet above the surface.

Finally, the FAA proposes administrative modifications to the airport's Class D legal description. The location of the airspace is incorrect and should be changed to read “Sacramento, CA” instead of “Sacramento Mather Airport, CA.” The geographic coordinates located on line three of the text header should be updated to match the FAA's database. Lastly, Sacramento Mather Airport has part-time Class D airspace but does not include a part-time statement within the legal description. Verbiage should be added to the legal description to properly describe the airspace as part-time.

Regulatory Notices and Analyses

The FAA has determined that this regulation only involves an established body of technical regulations for which frequent and routine amendments are necessary to keep them operationally current, is non-controversial, and unlikely to result in adverse or negative comments. It therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 5000 Class D Airspace.

* * * * *

AWP CA D Sacramento, CA [Amended]

Sacramento Mather Airport, CA

(Lat. 38°33′19″ N, long. 121°17′50″ W)

That airspace extending upward from the surface to and including 2,600 feet MSL within a 4.5-mile radius of Sacramento Mather Airport, and within 1.9 miles either side of the 061° bearing from the airport, extending from the 4.5-mile radius to 6.3 miles northeast of the airport. This Class D airspace area is effective during the specific dates and times established in advance by a Notice to Air Missions. The effective date and time will thereafter be continuously published in the Chart Supplement.

* * * * *

Paragraph 6005 Class E Airspace Extending Upward From 700 Feet or More Above the Surface of the Earth.

* * * * *

AWP CA E5 Sacramento, CA [New]

Sacramento Mather Airport, CA

(Lat. 38°33′19″ N, long. 121°17′50″ W)

That airspace extending upward from 700 feet above the surface within a 6.8-mile radius of the airport from the 075° bearing clockwise to the 210° bearing, and within 2.8 miles northwest and 2.4 miles southeast of the 054° bearing extending from the airport to 12.7 miles northeast, and within 6 miles northwest and 9 miles southeast of the 054° bearing extending from 12.7 miles northeast of the airport to 24.3 miles northeast, and that airspace within 2.8 miles either side of the 234° bearing extending from the airport to 10.9 miles southwest of the airport.

* * * * *

Issued in Des Moines, Washington, on April 11, 2024.
B.G. Chew,
Group Manager, Operations Support Group, Western Service Center.

[FR Doc. 2024-08166 Filed 4-17-24; 8:45 am]

BILLING CODE 4910-13-P